FARM CREDIT ADMINISTRATION

12 CFR Part 613

RIN 3052-AB90

Eligibility and Scope of Financing; Effective Date

AGENCY: Farm Credit Administration.

ACTION: Notice of effective date.

SUMMARY: The Farm Credit Administration (FCA or Agency), through the FCA Board (Board), issued a direct final rule with opportunity for comment under part 613 on May 24, 2001 (66 FR 28641) implementing the decision that the United States Court of Appeals for the District of Columbia issued on January 19, 1999. The opportunity for comment expired on June 25, 2001. The FCA received no comments and therefore, the final rule becomes effective without change. In accordance with 12 U.S.C. 2252, the effective date of the final rule is 30 days from the date of publication in the Federal Register during which either or both Houses of Congress are in session. Based on the records of the sessions of Congress, the effective date of the regulations is July 12, 2001.

EFFECTIVE DATE: The regulation amending 12 CFR part 613 published on May 24, 2001 (66 FR 28641) is effective July 12, 2001.

FOR FURTHER INFORMATION CONTACT: Robert Donnelly, Senior Accountant, Office of Policy and Analysis, Farm Credit Administration, McLean, Virginia 22102-5090, (703) 883-4498, TDD (703) 883-4444, or Richard A. Katz, Senior Attorney, Office of General Counsel, Farm Credit Administration, McLean, Virginia 22102-5090, (703) 883-4020, TDD (703) 883-4444.

(Authority: 12 U.S.C. 2252(a)(9) and (10)).

Dated: July 10, 2001.
Kelly Mikel Williams,
Secretary, Farm Credit Administration Board.

[FR Doc. 01-17694 Filed 7-13-01; 8:45 am]

BILLING CODE 6705-01-P